DEPARTMENT OF HOMELAND SECURITY

Coast Guard

33 CFR Part 165

[Docket No. USCG-2009-0472]

Safety Zones: Annual Events Requiring Safety Zones in the Captain of the Port Buffalo Zone

AGENCY: Coast Guard, DHS.

ACTION: Notice of enforcement of regulation.

SUMMARY: The Coast Guard will enforce the safety zones for annual fireworks displays in the Captain of the Port Buffalo Zone during June 1, 2009 through June 30, 2009. This action is necessary for the safety of life and property on navigable waters during these events. During the enforcement period, no person or vessel may enter the safety zones without the permission of the Captain of the Port Buffalo.

DATES: The regulations in 33 CFR 165.939(a)(10) and (a)(12) will be enforced on June 26, 2009 at 9:30 p.m. to 10:30 p.m. and June 27, 2009 at 8 p.m. to 10 p.m. respectively.

FOR FURTHER INFORMATION CONTACT: If you have questions on this notice, call or e-mail LT Brian Sadler, Waterways Management Division Chief, Coast Guard Sector Buffalo, 1 Fuhrmann Blvd., Buffalo, NY 14203; telephone 716-843-9573, e-mail Brian.L.Sadler@USCG.MIL.

SUPPLEMENTARY INFORMATION:

The Coast Guard will enforce the safety zone for the City of Syracuse Fireworks Celebration on Onondaga Lake Inner Harbor, Syracuse, NY in 33 CFR 165.939(a)(10) on June 26, 2009 from 9:30 p.m. to 10:30 p.m. and the safety zone for Rochester Harbor and Carousel Festival Fireworks on the Genesee River at Lake Ontario, Rochester, NY in 33 CFR 165.939(a)(12) on June 27, 2009 from 8 p.m. to 10 p.m. These regulations can be found in the May 19, 2008 issue of the Federal Register (73 FR 28704).

Under the provisions of 33 CFR 165.20, entry into, transiting, or anchoring within these safety zones is prohibited unless authorized by the Captain of the Port Buffalo or his designated representative. Vessels that wish to transit through the safety zones may request permission from the Captain of the Port Buffalo. Requests must be made in advance and approved by the Captain of Port before transits will be authorized. Approvals will be granted on a case by case basis. The Captain of the Port may be contacted via U.S. Coast Guard Sector Buffalo on channel 16, VHF-FM. The Coast Guard will give notice to the public via a Broadcast to Mariners that the regulation is in effect.

This notice is issued under authority of 33 CFR 165.939 and 5 U.S.C. 552(a). If the District Commander, Captain of the Port, or other official authorized to do so, determines that the regulated area need not be enforced for the full duration stated in this notice, he or she may use a Broadcast Notice to Mariners to grant general permission to enter the safety zone.

Dated: June 4, 2009.
R.S. Burchell,
Captain, U.S. Coast Guard, Captain of the Port Buffalo.

[FR Doc. E9-14384 Filed 6-18-09; 8:45 am]

BILLING CODE 4910-15-P